DEPARTMENT OF COMMERCE

Office of the Secretary

Estimates of the Voting Age Population for 2019

AGENCY: Office of the Secretary, Commerce.

ACTION: General notice announcing population estimates.

SUMMARY: This notice announces the voting age population estimates as of July 1, 2019, for each state and the District of Columbia. We are providing this notice in accordance with the 1976 amendment to the Federal Election Campaign Act. In addition, the data have been available online at the U.S. Census Bureau's website since December 30, 2019 at: https://www.census.gov/data/tables/time-series/demo/popest/2010s-state-detail.html.

FOR FURTHER INFORMATION CONTACT: Karen Battle, Chief, Population Division, U.S. Census Bureau, Room HQ-6H174, Washington, DC 20233, at 301-763-2071, or at karen.battle@census.gov.

SUPPLEMENTARY INFORMATION: Under the requirements of the 1976 amendment to the Federal Election Campaign Act, Title 52, United States Code, Section 30116(e), I hereby give notice that the estimates of the voting age population for July 1, 2019 for each state and the District of Columbia are as shown in the following table.

Estimates of the Population of Voting Age for Each State and the District of Columbia: July 1, 2019
Area | Population 18 and over | Area | Population 18 and over
United States | 255,200,373
Alabama | 3,814,879 | Missouri | 4,766,843
Alaska | 551,562 | Montana | 840,190
Arizona | 5,638,481 | Nebraska | 1,458,334
Arkansas | 2,317,649 | Nevada | 2,387,517
California | 30,617,582 | New Hampshire | 1,104,458
Colorado | 4,499,217 | New Jersey | 6,943,612
Connecticut | 2,837,847 | New Mexico | 1,620,991
Delaware | 770,192 | New York | 15,425,262
District of Columbia | 577,581 | North Carolina | 8,187,369
Florida | 17,247,808 | North Dakota | 581,891
Georgia | 8,113,542 | Ohio | 9,111,081
Hawaii | 1,116,004 | Oklahoma | 3,004,733
Idaho | 1,338,864 | Oregon | 3,351,175
Illinois | 9,853,946 | Pennsylvania | 10,167,376
Indiana | 5,164,245 | Rhode Island | 854,866
Iowa | 2,428,229 | South Carolina | 4,037,531
Kansas | 2,213,064 | South Dakota | 667,558
Kentucky | 3,464,802 | Tennessee | 5,319,123
Louisiana | 3,561,164 | Texas | 21,596,071
Maine | 1,095,370 | Utah | 2,274,774
Maryland | 4,710,993 | Vermont | 509,984
Massachusetts | 5,539,703 | Virginia | 6,674,671
Michigan | 7,842,924 | Washington | 5,951,832
Minnesota | 4,336,475 | West Virginia | 1,432,580
Mississippi | 2,277,566 | Wisconsin | 4,555,837
|  | Wyoming | 445,025
Source: U.S. Census Bureau, Population Division, Vintage 2019 Population Estimates.

I have certified these estimates for the Federal Election Commission.

Wilbur Ross,
Secretary, U.S. Department of Commerce.

[FR Doc. 2020-03000 Filed 2-13-20; 8:45 am]

BILLING CODE 3510-07-P